DEPARTMENT OF TRANSPORTATION

Federal Highway Administration

[Docket No. FHWA-2009-0084]

Agency Information Collection Activities: Notice of Request for Renewal of a Previously Approved Information Collection Titled: Federal Highway Administration (FHWA) State Reports for American Recovery and Reinvestment Act (ARRA)

AGENCY: Federal Highway Administration (FHWA), Department of Transportation (DOT).

ACTION: Notice of request for comments.

SUMMARY: The FHWA invites public comments about our intention to request the Office of Management and Budget's (OMB) approval for information collection that is summarized below under SUPPLEMENTARY INFORMATION. We published a Federal Register Notice with a 60-day public comment period on this information collection on May 27, 2009. We are required to publish this notice in the Federal Register by the Paperwork Reduction Act of 1995.

DATES: Please submit comments by August 31, 2009.

ADDRESSES: You may submit comments identified by DOT Docket ID Number FHWA-2009-0084, by any of the following methods:

Web Site: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue, SE., Washington, DC 20590-0001.

Hand Delivery or Courier: U.S. Department of Transportation, West Building Ground Floor, Room W12-140, 1200 New Jersey Avenue SE., Washington, DC 20590, between 9 a.m. and 5 p.m. ET, Monday through Friday, except Federal holidays.

FOR FURTHER INFORMATION CONTACT: Karen White, 202-366-9474, Office of Policy and Governmental Affairs, HPTS, Federal Highway Administration, Department of Transportation, 1200 New Jersey Avenue, SE., Washington, DC 20590, between 7:30 a.m. to 4:30 p.m., Monday through Friday, except Federal holidays.

SUPPLEMENTARY INFORMATION:

Title: Federal Highway Administration (FHWA) State Reports for American Recovery and Reinvestment Act (ARRA), OMB Control #2125-0623.

Background: The American Recovery and Reinvestment Act of 2009 (ARRA), provides the State Departments of Transportation and Federal Lands Agencies with $27.5 billion for highway infrastructure investment. With these funds also comes an increased level of data reporting with the stated goal of improving transparency and accountability at all levels of government. According to President Obama “Every American will be able to hold Washington accountable for these decisions by going online to see how and where their tax dollars are being spent.” The Federal Highway Administration (FHWA) in concert with the Office of the Secretary of Transportation (OST) and the other modes within the U.S. Department of Transportation (DOT) will be taking the appropriate steps to ensure that this accountability and transparency is in place for all infrastructure investments.

The reporting requirements of the ARRA, are covered in Sections 1201, 1512 and 1609. Section 1201(c)(1) stipulates that “notwithstanding any other provision of law each grant recipient shall submit to the covered agency (FHWA) from which they received funding periodic reports on the use of the funds appropriated in this Act for covered programs. Such reports shall be collected and compiled by the covered agency (FHWA) and transmitted to Congress. Covered agencies (FHWA) may develop such reports on behalf of grant recipients (States) to ensure the accuracy and consistency of such reports.”

Section 1512 of the ARRA requires “any entity that receives recovery funds directly from the Federal Government (including recovery funds received through grant, loan, or contract) other than an individual,” including States, to provide regular “Recipient Reports.”

Section 1609 references the National Environmental Policy Act of January 1, 1970. The ARRA legislation requires that “The President shall report to the Senate Environment and Public Works Committee and the House National Resources Committee every 90 days * * * the status and progress of projects and activities funded by this Act with respect to compliance with National Environmental Policy act requirements and documentation.”

As the recipients or grantees for the majority of the ARRA funds, States and Federal Land Management Agencies (FLMA) are by statute responsible for the reporting to FHWA on the projects, use of ARRA funds, and jobs supported. States and FLMA that receive recovery fund apportionments directly from the Federal government are responsible for reporting to FHWA, which in turn is responsible for reporting periodically to Congress and quarterly to the Recovery.gov Web site. To achieve a high-quality, consistent basis for reporting, the FHWA has designed a system for obtaining and summarizing data for all purposes.

States and FLMA will be responsible for providing the data that are not currently available at the national level. Note every data element required to be reported by the ARRA needs to be specifically collected. To the maximum extent possible, FHWA will utilize existing data programs to meet the ARRA reporting requirements. For example, for the requirement to report aggregate expenditures of State funds, FHWA will use existing reports submitted by States and data collected in the Financial Management Information System (FMIS). While the reporting obligations in the ARRA are only applicable to the grant recipients, the States and FLMA may need to obtain certain information from their contractors, consultants, and other funding recipients in order to provide the FHWA with all of the required information. Additional information on the American Recovery and Reinvestment Act of 2009 is available at http://www.fhwa.dot.gov/economicrecovery/index.htm.

Respondents: In a reporting cycle, it is estimated that reports will be received from approximately 70 grant recipient respondents. Respondents include: 50 State Departments of Transportation, the District of Columbia and Puerto Rico, the U.S. territories, the following Federal Land Management Agencies; National Park Service, U.S. Fish and Wildlife, National Forest Service and the Bureau of Indian Affairs and several Native American Indian Governments who, by contract, manage their own transportation program. These reports will be submitted online and reviewed for accuracy by the FHWA Division Offices before being submitted to FHWA Headquarters for compilation and submission to OST for publication on Recovery.gov.

File Title: Initial Recovery Act Project Plan.

Background: This file is used to submit information concerning how each State and FLMA plans to invest its allotment of ARRA funding. The list needs to be consistent with the list of projects provided in the State's Section 1511 certification, as it may be amended. States and FLMA should provide their best estimates of a complete list of projects to be funded with ARRA grants as of the plan's due date. If a State has not programmed all ARRA funds by that time, that information should be provided as well. These data will be used for meeting the reporting requirements of Sections 1201, 1512 and 1609.

Frequency: Initial list was due March 31, 2009. Additional updates are due within 2 weeks of the State or FLMA issuing a new Section 1511 certification.

Estimated Average Burden per Response: 1 hour.

Estimated Total Annual Burden Hours: 210 hours.

70 respondents × 1 hour per response × 3 responses annually = 210 annual burden hours.

File Title: Initial Recovery Act Award File.

Background: This file is used to submit information concerning how each State and FLMA awards its allotment of ARRA funding. The list needs to be consistent with the list of projects provided in the State's Section 1511 certification, as it may be amended. States and FLMA should provide their best estimates of a complete list of awards to projects funded with ARRA grants as of the plan's due date. These data will be used for meeting the reporting requirements of Sections 1201, 1512 and 1609.

Frequency: Initial list was due March 31, 2009. Additional updates are due within 2 weeks of the State or FLMA issuing a new Section 1511 certification.

Estimated Average Burden per Response: 1 hour.

Estimated Total Annual Burden Hours: 210 hours.

70 respondents × 1 hour per response × 3 responses annually = 210 annual burden hours.

File Title: Monthly Employment and Project Status File.

Background: This file is submitted by States, FLMA and the FHWA to provide summary employment and project status for all active ARRA projects. These data will be used for meeting the reporting requirements of Sections 1201 and 1512.

Frequency: Monthly until September 2012.

Estimated Average Burden per Response: 1.5 hour.

Estimated Total Annual Burden Hours: 1,260 hours.

70 respondents × 1.5 hours per response × 12 responses annually = 1,260 annual burden hours.

File Title: Quarterly Status File.

Background: This file is submitted by States, FLMA and the FHWA to provide summary employment and funding status for all active ARRA projects. These data will be used for meeting the reporting requirements of Sections 1201 and 1512.

Frequency: Quarterly until September 2012.

Estimated Average Burden per Response: 1 hour.

Estimated Total Annual Burden Hours: 280 hours.

70 respondents × 1 hour per response × 4 responses annually = 280 annual burden hours.

File Title: Recipient File.

Background: This file will be submitted by the States to provide information concerning sub-recipients and vendors for all Recovery Act projects. This data will be used for meeting the reporting requirements of Sections 1201, 1512 and 1609. States and FLMA shall provide the required information as individual vendors or sub-recipients.

Frequency: Once per vendor or sub-recipient.

Estimated Average Burden per Response: 10 minutes.

Estimated Total Annual Burden Hours: 385 hours.

70 respondents × 10 minutes per response × 33 responses annually = 385 annual burden hours.

File Title: Top Paid Officers File.

Background: This file will be submitted by the States to provide information concerning vendors for all Recovery Act projects. This data will be used for meeting the reporting requirements of Sections 1201, 1512 and 1609. States and FLMA shall provide the required information as individual vendors.

Frequency: Once per vendor.

Estimated Average Burden per Response: 10 minutes.

Estimated Total Annual Burden Hours: 385 hours.

70 respondents × 10 minutes per response × 33 responses annually = 385 annual burden hours.

Estimated Total Annual Burden Hours: 2,730.

Authority: The Paperwork Reduction Act of 1995; 44 U.S.C. Chapter 35, as amended; and 49 CFR 1.48.

Issued on: July 24, 2009.
Judi Kane,
Acting Chief, Management Programs and Analysis Division.

[FR Doc. E9-18144 Filed 7-29-09; 8:45 am]

BILLING CODE 4910-22-P